DEPARTMENT OF STATE

[Public Notice 5475]

International Joint Commission; Public Comment Period Extended for Lake Ontario-St. Lawrence Water Levels Study

The International Joint Commission (IJC) has extended the period for public comment on the report of its International Lake Ontario-St. Lawrence River Study Board until September 15, 2006 following the release of the Annexes to the report. The Study Board reviewed the regulation of water levels and flows in the Lake Ontario-St. Lawrence River system, taking into account the impact of regulation on affected interests. The Annexes provide the Technical Work Group summaries, descriptions of the new candidate regulation plans, discussion of mitigation and adaptive management action plans, and the pertinent background documents.

The Commission will consider the options as potential replacements for the current regulation plan, Plan 1958-D, and will also consider revising its Orders of Approval for regulation of Lake Ontario outflows. The public is welcome to provide comments on the Study Board report, the Annexes to the report, or any other relevant matters, to assist the Commission in its deliberations. Copies of the Study Board report and Annexes are available from either address below, or online at WWW.IJC.ORG. Comments by letter, fax or e-mail must be received by September 15, 2006 at either address below:

U.S. Section Secretary, International Joint Commission, 1250 23rd Street NW, Suite 100, Washington, DC 20440. Tel: (202) 736-9024, Fax: (202) 467-0746, Commission@washington.ijc.org.

Canadian Section Secretary, International Joint Commission, 234 Laurier Avenue West, 22nd Floor, Ottawa, ON K1P 6K6. Tel: (613) 995-0088, Fax: (613) 993-5583, Commission@ottawa.ijc.org.

Written public comments will become part of a public record that may be posted on the IJC's Web site or otherwise made available to the public. The IJC requests that people who submit comments provide contact information so that the IJC can inform them of the outcome of the process. To protect the privacy of any person submitting comment, the IJC will remove the following identifying information from the incoming communication before making the comment available to the public: e-mail address, street address, post office box, zip code, postal code, telephone number and fax number. The following identifying information will remain part of the record that is made available to the public: name, organizational affiliation, city, and state/province.

The Commission will hold public hearings after making a preliminary decision on changes to the current regulation plan and Orders of Approval. The times and locations will be announced. For more information, visit the Commission's Web site at: WWW.IJC.ORG.

For more information, contact Frank Bevacqua: (202) 736-9024; bevacquaF@washington.ijc.org

Dated: July 20, 2006.
James Chandler,
Legal Advisor, U.S. Section, International Joint Commission, Department of State.

[FR Doc. E6-12054 Filed 7-26-06; 8:45 am]

BILLING CODE 4710-14-P